DEPARTMENT OF ENERGY

Federal Energy Regulatory Commission

[Docket No. EL05-72-000]

Dynegy Midwest Generation, Inc.; Notice of Institution of Proceeding and Refund Effective Date

April 1, 2005.

On March 25, 2005, the Commission issued an order initiating a proceeding in Docket No. EL05-72-000 under section 206 of the Federal Power Act concerning the continued justness and reasonableness of Dynegy Midwest Generation, Inc.'s previously-accepted rate schedule for reactive power services. Dynegy Midwest Generation, Inc. 110 FERC ¶ 61,358 (2005).

The refund effective date in Docket No. EL05-72-000, established pursuant to section 206 of the Federal Power Act, will be 60 days following publication of this notice in the Federal Register.

Magalie R. Salas,
Secretary.

[FR Doc. E5-1628 Filed 4-7-05; 8:45 am]

BILLING CODE 6717-01-P